DEPARTMENT OF TRANSPORTATION

Office of the Secretary

[Docket No. DOT-OST-2012-0087]

Advisory Committee for Aviation Consumer Protection

AGENCY: Office of the Secretary (OST), Department of Transportation (DOT).

ACTION: Notice of seventh meeting of advisory committee.

SUMMARY: This notice announces the seventh meeting of the Advisory Committee for Aviation Consumer Protection.

DATES: The seventh meeting of the advisory committee is scheduled for April 14, 2015, from 9:00 a.m. to 4:00 p.m., Eastern Time.

ADDRESSES: The meeting will be held in the Media Center (located on the lobby level of the West Building) at the U.S. Department of Transportation (DOT) headquarters, 1200 New Jersey Avenue SE., Washington, DC. Attendance is open to the public up to the room's capacity of 100 attendees. Since space is limited and access to the DOT headquarters building is controlled for security purposes, any member of the general public who plans to attend this meeting must notify the registration contact identified below no later than April 7, 2015.

FOR FURTHER INFORMATION CONTACT: To register to attend the meeting, please contact Amy Przybyla, Research Analyst, CENTRA Technology, Inc., przybylaa@centratechnology.com; 703-894-6962. For other information please contact Kathleen Blank Riether, Senior Attorney, Office of Aviation Enforcement and Proceedings, kathleen.blankriether@dot.gov; U.S. Department of Transportation, 1200 New Jersey Ave. SE., Washington, DC 20590; 202-366-9342 (phone), 202-366-5944 (fax).

SUPPLEMENTARY INFORMATION: On May 24, 2012, the Secretary, as mandated by Section 411 of the FAA Modernization and Reform Act of 2012 (Pub. L. 112-95, 126 Stat. 11 (2012)), established the Advisory Committee on Aviation Consumer Protection. The committee's charter, drafted in accordance with the Federal Advisory Committee Act, as amended, 5 U.S.C. App. 2, sets forth policies for the operation of the advisory committee and is available on the Department's Web site at http://www.facadatabase.gov/committee/charters.aspx?cid=2448&aid=47.

The seventh meeting of the committee is scheduled for Tuesday, April 14, 2015, from 9:00 a.m. to 4:00 p.m. Eastern Time in the Media Center at the DOT headquarters, 1200 New Jersey Avenue SE., Washington, DC 20590. At the meeting, the issues that will be discussed are space allocated per passenger on the aircraft and airlines' frequent flyer programs.

As announced in the notices of prior meetings of the committee, the meeting will be open to the public, and, time permitting, comments by members of the public are invited. Attendance will necessarily be limited by the size of the meeting room (maximum 100 attendees). Since space is limited and access to the DOT headquarters building is controlled for security purposes, we ask that any member of the general public who plans to attend the seventh meeting notify the registration contact noted above no later than April 7, 2015. Additionally, DOT will stream the event live on the Internet at www.dot.gov/airconsumer/ACACP.

Members of the public may present written comments at any time. The docket number referenced above (DOT-OST-2012-0087, available at https://www.regulations.gov) has been established for committee documents including any written comments that may be filed. At the discretion of the Chairperson and time permitting, after completion of the planned agenda, individual members of the public may provide oral comments. Any oral comments presented must be limited to the objectives of the committee and will be limited to five (5) minutes per person. Individual members of the public who wish to present oral comments must notify the Department of Transportation contact noted above via email that they wish to attend and present oral comments no later than April 7, 2015.

Persons with a disability who plan to attend the meeting and require special accommodations, such as an interpreter for the hearing impaired, should notify the registration contact noted above no later than April 7, 2015.

Notice of this meeting is being provided in accordance with the Federal Advisory Committee Act and the General Services Administration regulations covering management of Federal advisory committees.

(41 CFR part 102-3.)

Issued in Washington, DC, on the 25th of March, 2015.
Blane A. Workie,
Assistant General Counsel for Aviation Enforcement & Proceedings, U.S. Department of Transportation.

[FR Doc. 2015-07292 Filed 3-27-15; 8:45 am]

BILLING CODE 4910-9X-P